DEPARTMENT OF JUSTICE

Notice of Lodging of Proposed Consent Judgment Under the Clean Air Act

On August 13, 2020, the Department of Justice lodged a proposed consent judgment with the United States District Court for the Eastern District of New York in the lawsuit entitled United States of America v. Village of Rockville Centre, New York, Case No. 20-CV-3663.

The United States filed this lawsuit to seek civil penalties and injunctive relief for violations of the Clean Air Act, 42 U.S.C. 7401 et seq. (“CAA”). The alleged violations stem from the Village of Rockville Centre's (“Village”) failure to comply with federally-enforceable emissions limits for particulate matter (“PM”) and nitrogen oxide (“NOX”). The Village operates a 33 megawatt municipal power plant (the “Power Plant”) that provides electric power to its residents, in part, using diesel engines. The Village operates the Power Plant primarily during the summer to meet high electricity demands. The Consent Judgment requires the Village to retire high-emission engines, and to institute operational practices and technologies to reduce the PM and NOX emissions of the Power Plant. The Consent Judgment also requires the Village to pay civil penalties of $110,000.

The publication of this notice opens a period for public comment on the proposed Consent Judgment. Comments should be addressed to the Assistant Attorney General, Environment and Natural Resources Division, and should refer to Village of Rockville Centre, New York, Civil Action No. 20-CV-3663, D.J. Ref. No. 90-5-2-1-10981. All comments must be submitted no later than thirty (30) days after the publication date of this notice. Comments may be submitted either by email or by mail:

To submit comments: | Send them to:
By email | pubcomment-ees.enrd@usdoj.gov
By mail | Assistant Attorney General, U.S. DOJ—ENRD, P.O. Box 7611, Washington, DC 20044-7611

During the public comment period, the Consent Judgment may be examined and downloaded at this Justice Department website: https://www.justice.gov/enrd/consent-decrees. We will provide a paper copy of the Consent Judgment upon written request and payment of reproduction costs. Please mail your request and payment to: Consent Decree Library, U.S. DOJ—ENRD, P.O. Box 7611, Washington, DC 20044-7611.

Please enclose a check or money order for $8.75 (25 cents per page reproduction cost) payable to the United States Treasury.

Henry Friedman,
Assistant Section Chief, Environmental Enforcement Section, Environment and Natural Resources Division.

[FR Doc. 2020-18068 Filed 8-18-20; 8:45 am]

BILLING CODE 4410-15-P